CORPORATION FOR NATIONAL AND COMMUNITY SERVICE

Sunshine Act Meeting Notice

The National Civilian Community Corps Advisory Board gives notice of the following meeting:

DATE AND TIME: Thursday, June 30, 2011, 2 p.m.-3:30 p.m.

PLACE: Conference Room #8312, 8th floor, Corporation for National and Community Service Headquarters, 1201 New York Avenue, NW., Washington, DC 20525

CALL-IN INFORMATION: This meeting is available to the public through the following toll-free call-in number: 888-790-1862 conference call access code number 5481825. Any interested member of the public may call this number and listen to the meeting. Callers can expect to incur charges for calls they initiate over wireless lines, and the Corporation will not refund any incurred charges. Callers will incur no charge for calls they initiate over land-line connections to the toll-free telephone number. Replays are generally available one hour after a call ends. The toll-free phone number for the replay is 800-489-7535, passcode 5478958. The end replay date: July 7, 2011, 10:59 PM (CT).

STATUS: Open.

Matters To Be Considered

I. Meeting Convenes

II. Approval of Minutes

III. Director's Report

IV. Committee Reports:

• Projects and Partnership Committee.

• Member Services Committee.

• Policy and Operations Committee.

V. Public Comment

ACCOMMODATIONS: Anyone who needs an interpreter or other accommodation should notify the Corporation's contact person by 5 p.m. Friday, June 17, 2011.

CONTACT PERSON FOR MORE INFORMATION: Erma Hodge, NCCC, Corporation for National and Community Service, 9th Floor, Room 9802B, 1201 New York Avenue, NW., Washington, DC 20525. Phone (202) 606-6696. Fax (202) 606-3459. TTY: (800) 833-3722. E-mail: ehodge@cns.gov.

Dated: June 14, 2011.
Wilsie Y. Minor,
Deputy General Counsel.

[FR Doc. 2011-15190 Filed 6-15-11; 11:15 am]

BILLING CODE 6050-$$-P